ENVIRONMENTAL PROTECTION AGENCY

40 CFR Part 180

[EPA-HQ-OPP-2015-0032; FRL-9946-02]

Receipt of Several Pesticide Petitions Filed for Residues of Pesticide Chemicals In or On Various Commodities

AGENCY: Environmental Protection Agency (EPA).

ACTION: Notice of filing of petitions and request for comment.

SUMMARY: This document announces EPA's receipt of several initial filings of pesticide petitions requesting the establishment or modification of regulations for residues of pesticide chemicals in or on various commodities.

DATES: Comments must be received on or before June 20, 2016.

ADDRESSES: Submit your comments, identified by the Docket Identification (ID) Number and the Pesticide Petition Number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, EPA seeks information on any groups or segments of the population who, as a result of their location, cultural practices, or other factors, may have atypical or disproportionately high and adverse human health impacts or environmental effects from exposure to the pesticides discussed in this document, compared to the general population.

II. What action is EPA taking?

EPA is announcing its receipt of several pesticide petitions filed under section 408 of the Federal Food, Drug, and Cosmetic Act (FFDCA), 21 U.S.C. 346a, requesting the establishment or modification of regulations in 40 CFR part 180 for residues of pesticide chemicals in or on various food commodities. EPA is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

New Tolerances

1. PP 5E8376. (EPA-HQ-OPP-2015-0679). Bayer CropScience LP, P.O. Box 12014, 2 T.W. Alexander Dr., Research Triangle Park, NC 27709, requests to establish a tolerance in 40 CFR 180.641 for residues of the insecticide spirotetramat in or on asparagus at 0.10 parts per million (ppm). Liquid chromatography/triple stage quadruple mass spectrometry (LC/MS/MS) is used to measure and evaluate residues of the chemical spirotetramat.

2. PP 5E8422. (EPA-HQ-OPP-2015-0829). Interregional Research Project Number 4 (IR-4), Rutgers University, 500 College Rd. East, Suite 201 W, Princeton, NJ 08540, requests to establish tolerances in 40 CFR 180.599 for residues of the insecticide acequinocyl in or on avocado at 0.4 ppm; bean, dry, seed at 0.03 ppm; vegetable, cucurbit, group 9 at 0.2 ppm; tea, plucked leaves at 40 ppm; cherry subgroup 12-12A at 1.0 ppm; fruit, citrus, group 10-10 at 0.20 ppm; fruit, pome, group 11-10 at 0.40 ppm; nut, tree, group 14-12 at 0.02 ppm; and vegetable, fruiting, group 8-10 at 0.70 ppm. The analytical method to quantitate residues of acequinocyl and acequinocyl-OH in/on fruit crops utilizes high pressure liquid chromatography (HPLC) using mass spectrometric (MS/MS) detection. The target limit of quantitation (LOQ) is 0.01 ppm.

3. PP 5E8428. (EPA-HQ-OPP-2016-0013). IR-4, Rutgers University, 500 College Rd. East, Suite 201 W, Princeton, NJ 08540, requests to establish tolerances in 40 CFR 180.613 for residues of the insecticide flonicamid, N-(cyanomethyl)-4-(trifluoromethyl)-3-pyridinecarboxamide, and its metabolites, TFNA (4-trifluoromethylnicotinic acid), TFNA-AM (4-trifluoromethylnicotinamide), and TFNG, N-(4-trifluoromethylnicotinoyl)glycine, calculated as the stoichiometric equivalent of flonicamid, in or on pea and bean, dried shelled, except soybean, subgroup 6C at 3.0 ppm; pea and bean, succulent shelled, subgroup 6B at 6.0 ppm; and vegetable, legume, edible podded, subgroup 6A at 4.0 ppm. The analytical methodology used to measure and evaluate residues of flonicamid in various crops includes an initial extraction, typically with acetonitrile/deionized water, followed by a liquid-liquid partition with ethyl acetate. The final sample solution is quantitated using a liquid chromatograph equipped with a reverse phase column and a triple quadruple mass spectrometer.

4. PP 5E8434. (EPA-HQ-OPP-2016-0064). IR-4, Rutgers University, 500 College Rd. East, Suite 201 W, Princeton, NJ 08540, requests to establish tolerances in 40 CFR 180.579 for residues of fenamidone (4H-imidazol-4-one, 3,5-dihydro-5-methyl-2-(methylthio)-5-phenyl-3-(phenylamino)-, (S)-) in or on the raw agricultural commodities basil, fresh leaves at 30 ppm; and basil, dried leaves at 200 ppm. Additionally, tolerances are proposed for the crops in the proposed crop subgroup 4-15A, leafy greens subgroup at 60.0 ppm, including amaranth, Chinese; amaranth, leafy; aster, Indian; blackjack; cat's whiskers; chervil, fresh leaves; cham-chwi; cham-na-mul; chipilin; chrysanthemum, garland; cilantro, fresh leaves; corn salad; cosmos; dandelion; dang-gwi; dillweed; dock; dol-nam-mul; ebolo; endive; escarole; fameflower; feather cockscomb; good king henry; huauzontle; jute, leaves; lettuce, bitter; lettuce, head; lettuce, leaf; orach; parsley, fresh leaves; plantain, buckhorn; primrose, English; purslane, garden; purslane, winter; radicchio; spinach; spinach, malabar; spinach, New Zealand; spinach, tanier; swiss chard; and violet, Chinese; the crops in the proposed crop subgroup 4-15B, Brassica leafy greens subgroup at 55 ppm, including arugula; broccoli raab; broccoli, Chinese; cabbage, Abyssinian; cabbage, seakale; Chinese cabbage, bok choy; collards; cress, garden; cress, upland; hanover salad; kale; maca; mizuna; mustard greens; radish, leaves; rape greens; rocket, wild; shepherd's purse; turnip greens; and watercress; the crops in the proposed crop subgroup 22B, leaf petiole vegetable subgroup at 60 ppm, including cardoon; celery; celery, Chinese; fuki; rhubarb; udo; and zuiki; the crops in the proposed crop group 5-15 (Brassica head and stem vegetable) at 5.0 ppm, including broccoli; brussels sprouts; cabbage; cabbage, Chinese, napa; and cauliflower; cottonseed subgroup 20C at 0.02 ppm; kohlrabi at 5.0 ppm; celtuce at 60 ppm; and fennel, Florence, fresh leaves and stalk at 60 ppm. Residues are quantified by HPLC with tandem mass spectrometric detection (LC/MS/MS). The method LOQ is 0.02 ppm or lower for fenamidone in all raw agricultural commodities and processed fractions.

5. PP 5E8437. (EPA-HQ-OPP-2016-0049). IR-4, Rutgers University, 500 College Rd. East, Suite 201 W, Princeton, NJ 08540, requests to establish tolerances in 40 CFR 180.685 for residues of the fungicide oxathiapiprolin, 1-[4-[4-[5-(2,6-difluorophenyl)-4,5-dihydro-3-isoxazolyl]-2-thiazolyl]-1-piperidinyl]-2-[5-methyl-3-(trifluoromethyl)-1H-pyrazol-1-yl]-ethanone, including its metabolites and degradates, in or on basil, fresh leaves at 10.0 ppm; basil, dried leaves at 80 ppm; caneberry subgroup 13-07A at 0.5 ppm; and, as designated in the November 14, 2014, proposed rule “Tolerance Crop Grouping Program IV” (79 FR 68153):

(i) All individual crops in the proposed leafy greens subgroup 4-14A at 15 ppm, including amaranth, Chinese; amaranth, leafy; aster, Indian; blackjack; cat's whiskers; chervil, fresh leaves; cham-chwi; cham-na-mul; chipilin; chrysanthemum, garland; cilantro, fresh leaves; corn salad; cosmos; dandelion; dang-gwi; dillweed; dock; dol-nam-mul; ebolo; endive; escarole; fameflower; feather cockscomb; good king henry; huauzontle; jute, leaves; lettuce, bitter; lettuce, head; lettuce, leaf; orach; parsley, fresh leaves; plantain, buckhorn; primrose, English; purslane, garden; purslane, winter; radicchio; spinach; spinach, malabar; spinach, New Zealand; spinach, tanier; swiss chard; and violet, Chinese;

(ii) All individual crops in the proposed Brassica leafy greens subgroup 4-14B at 10 ppm, including arugula; broccoli raab; broccoli, Chinese; cabbage, Abyssinian; cabbage, seakale; Chinese cabbage, bok choy; collards; cress, garden; cress, upland; hanover salad; kale; maca; mizuna; mustard greens; radish, leaves; rape greens; rocket, wild; shepherd's purse; turnip greens; and watercress;

(iii) All individual crops in the proposed Brassica head and stem vegetable group 5-14 at 1.5 ppm, including broccoli; brussels sprouts; cabbage; cabbage, Chinese, napa; and cauliflower; and

(iv) All individual crops in the proposed stalk and stem vegetable subgroup 22A at 2 ppm, including agave; aloe vera; asparagus; bamboo, shoots; celtuce; fennel, Florence, fresh leaves and stalk; fern, edible; kale, sea; kohlrabi; palm hearts; prickly pear, pads; and prickly pear, Texas, pads.

The analytical methodology, high pressure liquid chromatography with tandem mass spectrometry (MS/MS) detection, is used to measure and evaluate oxathiapiprolin residues.

6. PP 5F8429. (EPA-HQ-OPP-2016-0029). Gowan Co., P.O. Box 5569, Yuma, AZ 85366-5569, requests to establish a tolerance in 40 CFR 180.632 for residues of the miticide/insecticide fenazaquin (4-[2-[4-(1,1,-dimethylethyl) phenyl] ethoxy] quinazoline) in or on the raw commodities for tree nut crop group 14-12 at 0.02 ppm. The LC/MS/MS with positive-ion electrospray ionization tandem mass spectrometry is used to measure and evaluate the chemical fenazaquin.

7. PP 5F8441. (EPA-HQ-OPP-2016-0049). Syngenta Crop Protection LLC, 410 Swing Rd., P.O. Box 18300, Greensboro, NC 27419-8300, requests to establish tolerances in 40 CFR 180.685 for residues of the fungicide oxathiapiprolin in or on citrus fruit crop group 10-10 at 0.06 ppm; citrus oil at 2.0 ppm; citrus pulp at 0.09 ppm; and potato, wet peel at 0.07 ppm. The analytical method using high pressure liquid chromatography with MS/MS detection is used to measure and evaluate the chemical residues of oxathiapiprolin.

8. PP 6E8446. (EPA-HQ-OPP-2016-0128). IR-4, Rutgers University, 500 College Rd. East, Suite 201 W, Princeton, NJ 08540, requests to establish a tolerance in 40 CFR 180.620 for residues of the insecticide etofenprox (2-(4-ethoxyphenyl)-2-methylpropyl 3-phenoxybenzyl ether) in or on fungi, edible, group 21 at 3.0 ppm. The analytical method consisting of liquid chromatography with tandem mass spectrometry (LC/MS/MS) is used to measure and evaluate the chemical etofenprox.

9. PP 6E8449. (EPA-HQ-OPP-2016-0160). ISK Biosciences Corp., 7470 Auburn Rd., Suite A, Concord, OH 44077, requests to establish a tolerance in 40 CFR 180.574 for residues of fluazinam, including its metabolites and degradates, in or on the raw agricultural commodity dried tea at 5.0 ppm. Analytical methods using gas chromatography with electron capture detector for the determination of fluazinam on dried tea have been developed and validated.

10. PP 6E8452. (EPA-HQ-OPP-2016-0166). IR-4, Rutgers University, 500 College Rd. East, Suite 201 W, Princeton, NJ 08540, requests to establish tolerances in 40 CFR 180.653 for residues of the herbicide indaziflam (N-[(1R,2S)-2,3-dihydro-2,6-dimethyl-1H-inden-1-yl]-6-(1-fluoroethyl)-1,3,5-triazine-2,4-diamine) in or on bushberry, subgroup 13-07B at 0.01 ppm; caneberry, subgroup 13-07A at 0.01 ppm; coffee, green bean at 0.01 ppm; fruit, small, vine climbing, except fuzzy kiwifruit, subgroup 13-07F at 0.01 ppm; hop, dried cones at 0.03 ppm; fruit, stone, group 12-12 at 0.01 ppm; and nut, tree, group 14-12 at 0.01 ppm. Additionally, tolerances are proposed for the crops in the proposed crop subgroup 23A (small fruit, edible peel subgroup) at 0.01 ppm, including acerola; African plum; agritos, almondette; appleberry; arbutus berry; bayberry, red; bignay; breadnut; cabeluda; carandas-plum; Ceylon iron wood; Ceylon olive; cherry-of-the-Rio-Grande; Chinese olive, black; Chinese olive, white; chirauli-nut; cocoplum; desert-date; false sandalwood; fragrant manjack; gooseberry, Abyssinian; gooseberry, Ceylon; gooseberry, otaheite; governor's plum; grumichama; guabiroba; guava berry; guava, Brazilian; guava, Costa Rican; guayabillo; illawarra plum; Indian-plum; Jamaica-cherry; jambolan; kaffir-plum; kakadu plum; kapundung; karnada; lemon aspen; mombin, yellow; monos plum; mountain cherry; olive; persimmon, black; pitomba; plum-of-Martinique; rukam; rumberry; sea grape; sete-capotes; silver aspen; water apple; water pear; water berry; and wax jambu. The analytical method consisting of high pressure liquid chromatography with triple stage quadrupole mass spectrometry (LC/MS/MS) is used to measure and evaluate the chemical indaziflam.

11. PP 6E8454. (EPA-HQ-OPP-2016-0171). IR-4, Rutgers University, 500 College Rd. East, Suite 201 W, Princeton, NJ 08540, requests to establish a tolerance in 40 CFR 180.659 for residues of pyroxasulfone (3-[[[5-(difluoromethoxy)-1-methyl-3-(trifluoromethyl)-1H-pyrazol-4-yl]methyl]sulfonyl]-4,5-dihydro-5,5-dimethylisoxazole) and its metabolites (5-(difluoromethoxy)-1-methyl-3-(trifluoromethyl)-1H-pyrazol-4-carboxylic acid (M-3); 5-(difluoromethoxy)-3-(trifluoromethyl)-1H-pyrazol-4-yl]methanesulfonic acid (M-25); 3-[1-carboxy-2-(5,5-dimethyl-4,5-dihydroisoxazol-3-ylthio)ethylamino]-3-oxopropanoic acid (M-28); and 5-(difluoromethoxy)-1-methyl-3-(trifluoromethyl)-1H-pyrazol-4-yl]methanesulfonic acid (M-1)) calculated as the stoichiometric equivalent of pyroxasulfone in or on the raw agricultural commodity sunflower subgroup 20B at 0.2 ppm. EPA has approved an analytical enforcement methodology including liquid chromatography, mass spectrometry, and mass spectrometry (LC/MS/MS) to enforce the tolerance expression for pyroxasulfone.

12. PP 6F8455. (EPA-HQ-OPP-2016-0218). Syngenta Crop Protection LLC, 410 Swing Rd., P.O. Box 18300, Greensboro, NC 27419-8300 and Canyon Group LLC, 370 S. Main St., Yuma, AZ 85364, request to establish tolerances in 40 CFR 180.481 for residues of the herbicide prosulfuron (N-[[(4-methoxy-6-methyl-1,3,5-triazin-2-yl)amino]carbonyl]-2-(3,3,3-trifluoropropyl)benzenesulfonamide) in or on the raw agricultural commodities grain, cereal, forage, fodder, and straw, group 16, fodder at 0.01 ppm; grain, cereal, forage, fodder, and straw, group 16, forage at 0.1 ppm; grain, cereal, forage, fodder, and straw, group 16, hay at 0.2 ppm; grain, cereal, forage, fodder, and straw, group 16, straw at 0.02 ppm; and grain, cereal, group 15 at 0.01 ppm. Analytical method AG-590C has been submitted for the detection and measurement of residue levels of prosulfuron in or on plant commodities. The method is based on cleanup procedures followed by determination by high performance liquid chromatography with ultraviolet (UV) detection. The LOQ is 0.01 ppm. A more recent analytical method, Syngenta Crop Protection Analytical Method REM 137.14, is being submitted for the determination of prosulfuron residues in crops based on cleanup procedures followed by analysis via LC/MS/MS. The LOQ is 0.01 ppm.

Amended Tolerances

1. PP 5E8422. (EPA-HQ-OPP-2015-0829). IR-4, Rutgers University, 500 College Rd. East, Suite 201 W, Princeton, NJ 08540, requests, upon establishment of the tolerances referenced above under “New Tolerances” for PP 5E8422, to remove existing tolerances in 40 CFR 180.599 for residues of the insecticide acequinocyl in or on the following raw agricultural commodities: cucumber at 0.15 ppm; melon, subgroup 9A at 0.15 ppm; cherry, sweet at 0.50 ppm; cherry, tart at 1.0 ppm; fruit, citrus, group 10 at 0.20 ppm; fruit, pome, group 11 at 0.40 ppm; nut, tree, group 14 at 0.02 ppm; pistachio at 0.02 ppm; vegetable, fruiting, group 8 at 0.70 ppm; and okra at 0.70 ppm. The analytical method to quantitate residues of acequinocyl and acequinocyl-OH in/on fruit crops utilizes HPLC using MS/MS detection. The target LOQ is 0.01 ppm.

2. PP 5E8428. (EPA-HQ-OPP-2016-0013). IR-4, Rutgers University, 500 College Rd. East, Suite 201 W, Princeton, NJ 08540, requests to increase the established tolerance in 40 CFR 180.613 for residues of the insecticide flonicamid, N-(cyanomethyl)-4-(trifluoromethyl)-3-pyridinecarboxamide, and its metabolites, TFNA (4-trifluoromethylnicotinic acid), TFNA-AM (4-trifluoromethylnicotinamide), and TFNG, N-(4-trifluoromethylnicotinoyl)glycine, calculated as the stoichiometric equivalent of flonicamid, in or on vegetable, fruiting, group 8-10 from 0.40 ppm to 1.50 ppm. The analytical methodology used to measure and evaluate residues of flonicamid in various crops includes an initial extraction, typically with acetonitrile/deionized water, followed by a liquid-liquid partition with ethyl acetate. The final sample solution is quantitated using a liquid chromatograph equipped with a reverse phase column and a triple quadruple mass spectrometer.

3. PP 5E8434. (EPA-HQ-OPP-2016-0064). IR-4, Rutgers University, 500 College Rd. East, Suite 201 W, Princeton, NJ 08540, requests, upon establishment of the tolerances referenced above under “New Tolerances” for PP 5E8434, to remove existing tolerances in 40 CFR 180.579 for residues of fenamidone (4H-imidazol-4-one, 3,5-dihydro-5-methyl-2-(methylthio)-5-phenyl-3-(phenylamino)-, (S)-) in or on the following raw agricultural commodities: Brassica, head and stem, subgroup 5A at 5.0 ppm; Brassica, leafy greens, subgroup 5B at 55 ppm; cotton, undelinted seed at 0.02 ppm; cilantro, leaves at 60 ppm; and vegetable, leafy, except Brassica, group 4 at 60 ppm. Residues are quantified by HPLC with LC/MS/MS. The method LOQ is 0.02 ppm or lower for fenamidone in all raw agricultural commodities and processed fractions.

4. PP 5E8437. (EPA-HQ-OPP-2016-0049). IR-4, Rutgers University, 500 College Rd. East, Suite 201 W, Princeton, NJ 08540, requests to amend 40 CFR 180.685 by removing the established tolerances for the residues of the fungicide oxathiapiprolin, 1-[4-[4-[5-(2,6-difluorophenyl)-4,5-dihydro-3-isoxazolyl]-2-thiazolyl]-1-piperidinyl]-2-[5-methyl-3-(trifluoromethyl)-1H-pyrazol-1-yl]-ethanone, including its metabolites and degradates, in or on leafy greens, subgroup 4A at 15 ppm; and Brassica, head and stem, subgroup 5A at 1.5 ppm upon establishment of the proposed tolerances referenced above under “New Tolerances” for PP 5E8437. Adequate analytical methodology, high pressure liquid chromatography with MS/MS detection, is available for enforcement purposes.

5. PP 5F8414. (EPA-HQ-OPP-2015-0791). Valent U.S.A. Corp., 1600 Riviera Ave., Suite 200, Walnut Creek, CA 94596, requests to amend the tolerances in 40 CFR 180.627 for residues of the fungicide fluopicolide in or on vegetables, tuberous and corm (subgroup 1C) at 0.10 ppm; and potato processed waste at 0.25 ppm. Practical analytical methods for detecting and measuring levels of fluopicolide and its metabolites have been developed, validated, and submitted for all appropriate plant and animal matrices.

6. PP 5F8429. (EPA-HQ-OPP-2016-0029). Gowan Co., P.O. Box 5569, Yuma, AZ 85366-5569, requests to amend 40 CFR 180.632 by removing the established tolerance for residues of the miticide/insecticide fenazaquin (4-[2-[4-(1,1,-dimethylethyl) phenyl] ethoxy] quinazoline) in or on the raw commodity almond at 0.02 ppm upon establishment of the proposed tolerance referenced above under “New Tolerances” for PP 5F8429.

7. PP 5F8441. (EPA-HQ-OPP-2016-0049). Syngenta Crop Protection LLC, 410 Swing Rd., P.O. Box 18300, Greensboro, NC 27419-8300, requests to amend the tolerance in 40 CFR 180.685 for residues of the fungicide oxathiapiprolin in or on tuberous and corm vegetables, subgroup 1C at 0.04 ppm. The analytical method using high pressure liquid chromatography with MS/MS detection is used to measure and evaluate the chemical residues of oxathiapiprolin.

8. PP 6E8446. (EPA-HQ-OPP-2016-0128). IR-4, Rutgers University, 500 College Rd. East, Suite 201 W, Princeton, NJ 08540, requests to amend the tolerances in 40 CFR 180.620 for residues of the insecticide etofenprox (2-(4-ethoxyphenyl)-2-methylpropyl 3-phenoxybenzyl ether) in or on all food commodities (including feed commodities) not otherwise listed from 5.0 ppm to 0.40 ppm. This amendment may potentially impact/reduce the tolerances established in or on livestock commodities. The analytical method consisting of LC/MS/MS is used to measure and evaluate the chemical etofenprox.

9. PP 6E8452. (EPA-HQ-OPP-2016-0166). IR-4, Rutgers University, 500 College Rd. East, Suite 201 W, Princeton, NJ 08540, requests, upon establishment of the tolerances referenced above under “New Tolerances” for PP 6E8452, to remove existing tolerances in 40 CFR 180.653 for residues of the herbicide indaziflam (N-[(1R,2S)-2,3-dihydro-2,6-dimethyl-1H-inden-1-yl]-6-(1-fluoroethyl)-1,3,5-triazine-2,4-diamine) in or on fruit, stone, group 12 at 0.01 ppm; nut, tree, group 14 at 0.01 ppm; grape at 0.01 ppm; and pistachio at 0.01 ppm. The analytical method consisting of LC/MS/MS is used to measure and evaluate the chemical indaziflam.

New Tolerance Exemptions

1. PP IN-10891. (EPA-HQ-OPP-2016-0123). BASF Corp., 26 Davis Dr., Research Triangle Park, NC 27709, requests to establish an exemption from the requirement of a tolerance for residues of Bacillus simplex strain BU288 when used as a pesticide inert ingredient (emulsifier) applied to growing crops and raw agricultural commodities after harvest under 40 CFR 180.910. The petitioner believes no analytical method is needed because it is not required for an exemption from the requirement of a tolerance.

2. PP IN-10907. (EPA-HQ-OPP-2016-0201). Keller and Heckman, LLP, 1001 G St. NW., Suite 500 West, Washington, DC 20001 (on behalf of Trinseo LLC, 1000 Chesterbrook Blvd., Berwyn, PA 19312-1084), requests to establish an exemption from the requirement of a tolerance for residues of butanedioic acid, 2-methylene-, polymer with 1,3-butadiene, ethenylbenzene and 2-hydroxyethyl 2-propenoate (CAS Reg. No. 36089-06-2) when used as an inert ingredient (emulsifier or binder) in pesticide formulations under 40 CFR 180.960. The petitioner believes no analytical method is needed because it is not required for an exemption from the requirement of a tolerance.

Authority: 21 U.S.C. 346a.

Dated: May 6, 2016.
Robert C. McNally,
Director, Biopesticides and Pollution Prevention Division, Office of Pesticide Programs.

[FR Doc. 2016-11835 Filed 5-18-16; 8:45 am]

BILLING CODE 6560-50-P